DEPARTMENT OF COMMERCE

National Oceanic and Atmospheric Administration

[I.D. 013003B]

Marine Mammals: Final Environmental Assessment of Issuing a Bowhead Whale Subsistence Quota to the Alaska Eskimo Whaling Commission for the Years 2003 through 2007

AGENCY: National Marine Fisheries Service (NMFS), National Oceanic and Atmospheric Administration (NOAA), Commerce.

ACTION: Notice of availability.

SUMMARY: NMFS announces the availability of an Environmental Assessment (EA), in accordance with the National Environmental Policy Act (NEPA), to assess the impacts of issuing the International Whaling Commission (IWC) subsistence quota for bowhead whales to the Alaska Eskimo Whaling Commission (AEWC) for the years 2003 through 2007. NMFS has identified a preferred alternative in the EA that will grant the AEWC the IWC quota of 255 landed bowhead whales, with an annual strike quota of 67 bowhead whales per year for the years 2003 through 2007, where no more than 15 unused strikes are added to the strike quota for any one year.

ADDRESSES: Copies of the EA may be obtained via the Internet (see Electronic Access). Copies of the EA may be requested by writing to Gale Heim, NOAA/NMFS, Office of Protected Resources, 13th Floor, 1315 East-West Hwy, Silver Spring, MD 20910. Mark the outside of the envelope with “Request for Bowhead EA.”

FOR FURTHER INFORMATION CONTACT: Chris Yates or Winnie Chan, 301-713-2322.

SUPPLEMENTARY INFORMATION:

Electronic Access

Copies of the EA may be obtained over the Internet at the Office of Protected Resources Marine Mammal website under “Quick Information Links” at http://www.nmfs.noaa.gov/prot_res/overview/mm.html. The link is titled “Bowhead Whale Environmental Assessment”.

Background

At the 5th Special Meeting of the IWC held in October, 2002 the Commission approved a 5-year aboriginal subsistence quota for the take of Western arctic bowhead whales. The quota allows for a combined total of up to 280 whales to be landed in the years 2003 through 2007 by Alaskan Eskimos and Russian natives. For each of these years, the number of bowhead whales struck shall not exceed 67, except that any unused portion of a strike quota from any year shall be carried forward and added to the strike quota of any subsequent year, provided that no more than 15 strikes shall be added to the strike quota for any one year.

The basis for the quota was a joint request by the Russian Federation and the United States for 280 whales (255 for Alaska Eskimos and 25 for Russian natives) over a 5-year period. The annual strike limits and quotas for whales are determined at the beginning of each year after consultation with the Russian government.

At the 54th annual meeting of the IWC, held in May, 2002 the Scientific Committee reiterated its previous advice for the Bering-Chukchi-Beaufort Seas stock of bowhead whales. That is, it is very likely that a catch limit of 102 whales or less would be consistent with the requirements under IWC regulation.

The International Convention for the Regulation of Whaling, under which the IWC operates, is implemented domestically through the Whaling Convention Act (WCA). Under the WCA, NMFS issues a share of the IWC bowhead quota to the AEWC.

Alaska Eskimos have been taking bowhead whales for at least 2,000 years. Alaska Native subsistence hunters take less than one percent of the population of bowhead whales per year. Since 1977, the number of takes has ranged between 14 and 75 per year.

NEPA requires that Federal agencies conduct an environmental analysis of the effect of their proposed actions on the environment. Although all quotas under the WCA are issued on an annual basis, NMFS evaluated the effects of issuing them over a 5-year period. A draft EA was distributed for public comment on December 9, 2002. The EA analyzed four alternatives:

Alternative 1 - Grant the AEWC a quota of 255 landed bowhead whales over 5 years (2003 through 2007), with an annual strike quota of 67 bowhead whales per year, where no unused strikes are added to the strike quota for any one year.

Alternative 2 - Grant the AEWC a quota of 255 landed bowhead whales over 5 years (2003 through 2007), with an annual strike quota of 67 bowhead whales per year, where no more than 15 unused strikes are added to the strike quota for any one year.

Alternative 3 - Grant the AEWC a quota of 255 landed bowhead whales over 5 years (2003 through 2007), with an annual strike quota of 67 bowhead whales per year, where, for unused strikes, up to 50 percent of the annual strike limit is added to the strike quota for any one year.

Alternative 4 (No Action) - Do not grant the AEWC a quota.

After reviewing and addressing the comments received, NMFS selected Alternative 2 as the preferred alternative. NMFS issued a final EA and Finding of No Significant Impact on February 23, 2003. The Final EA was prepared in accordance with NEPA, implementing regulations at 40 CFR parts 1500 through 1508, and NOAA guidelines concerning implementation of NEPA found in NOAA Administrative Order 216-6.

Dated: February 26, 2003.
Stephen L. Leathery,
Acting Director, Office of Protected Resources, National Marine Fisheries Service.

[FR Doc. 03-5045 Filed 3-3-03; 8:45 am]

BILLING CODE 3510-22-S